Title 3—

The President

Proclamation 7418 of March 28, 2001

Cancer Control Month, 2001

By the President of the United States of America

A Proclamation

In 2001, an estimated 1.2 million new cases of cancer will occur, and more than half a million individuals will die from the disease. Standing alone, the figures are discouraging. However, a recent decline in the rates of new cases, as well as cancer-related deaths, offers us hope. The 5-year survival rate has improved for all cancers, and 8.9 million Americans are cancer survivors.

Thirty years of investment in the National Cancer Program following the National Cancer Act of 1971 have accelerated the pace of cancer research. The investment in research has yielded great dividends in the areas of cancer prevention, early detection, better treatments, and improved quality of life for people with cancer. These advances are remarkable, but much remains to be done.

Healthy behavior can greatly reduce the risk of cancer. About 45 million Americans have already quit smoking, but this most preventable cause of cancer continues to damage public health. Tobacco use causes nearly all cases of lung cancer and more than one-third of all cancer deaths. Children can become addicted to tobacco in a very short time, placing a serious responsibility on adults to help young people stop smoking, or ideally, never start.

Other weapons remain formidable in the fight against cancer. Since 1991, the 5 A Day for Better Health program has spread the message that eating five or more servings of fruits and vegetables daily can improve health and prevent disease. Over the past 15 years, increasing numbers of women have been screened for breast cancer. Continued emphasis on screening for cancer, including colon cancer, can play a vital role in saving countless lives. Clinical trials of new drugs may reveal which ones are most effective in treating cancer. The Cancer Information Service, a free public service of the National Cancer Institute (NCI) and the National Institutes of Health, operates as a national resource for information about cancer. Americans may contact the organization at 1-800-4-CANCER or visit its Internet address at http://www.cancer.gov.

Cancer takes a terrible toll on our country. I encourage all Americans to make healthy choices in their personal behaviors. Together, we can help stop cancer and improve the odds of survival for people of all ages.

In 1938, the Congress of the United States passed a joint resolution (52 Stat. 148; 36 U.S.C. 103) requesting the President to issue an annual proclamation declaring April as “Cancer Control Month.”

NOW, THEREFORE, I, GEORGE W. BUSH, President of the United States of America, by virtue of the authority vested in me by the Constitution and laws of the United States, do hereby proclaim April 2001 as Cancer Control Month. By reaffirming the importance of controlling cancer, concerned citizens, government agencies, private industry, nonprofit organizations, and other interested groups can work toward the day when this devastating condition is finally eradicated.

IN WITNESS WHEREOF, I have hereunto set my hand this twenty-eighth day of March, in the year of our Lord two thousand one, and of the Independence of the United States of America the two hundred and twenty-fifth.

B

[FR Doc. 01-8009

Filed 3-28-01; 11:40 am]

Billing code 3195-01-P